SECURITIES AND EXCHANGE COMMISSION

17 CFR Parts 240 and 249

[Release No. 34-63347; File No. S7-35-10]

RIN 3235-AK79

Security-Based Swap Data Repository Registration, Duties, and Core Principles

Correction

In proposed rule document 2010-29719 beginning on page 77306 in the issue of December 10, 2010, make the following corrections:

1. On page 77320, in the third column, footnote 74, in the fourth line, “recordkeeping” should read “record keeping”.

2. On page 77321, in the second column, below the heading Request for Comment, in the fifth bulleted paragraph, in the tenth line, “requiring” should read “require”.

3. On page 77324, in the third column, footnote 90, in the fifth line, “recordkeeping” should read “record keeping”.

4. On page 77338, the last line of text in the third column, prior to footnote 164 on the page, should read “information maintained by the SDR,¹⁶⁵”.

5. On the same page, in the same column, after footnote 164, add footnote 165 to read as follows:

¹⁶⁵ See Public Law 111-203 (adding Exchange Act Section 12(n)(5)(D)(i)).

6. On page 77347, in the second column, in the tenth line from the bottom of the page, “conflict” should read “conflicts”.

7. On page 77356, in the third column, in thirty-first line, “systematically” should read “systemically”.

8. On the same page, in the same line of the same column, “Therefor” should read “Therefore”.

§ 249.1500 [Corrected]

9. On page 77375, in § 249.1500, before the first line in the first column, insert the following text:

EXHIBITS—BUSINESS ORGANIZATION

13. List as Exhibit A any person as defined in Section 3(a)(9) of the

10. On the same page, in the second column, in the fifth, eleventh, and fifteenth lines from the bottom of the page, “l5” should read “15”.

[FR Doc. C1-2010-29719 Filed 12-17-10; 8:45 am]

BILLING CODE 1505-01-D